DEPARTMENT OF AGRICULTURE

Food and Nutrition Service

The Emergency Food Assistance Program Availability of Commodities for Fiscal Year 2001

AGENCY: Food and Nutrition Service, USDA.

ACTION: Notice.

SUMMARY: This notice announces the surplus and purchased commodities that the Department expects to make available for donation to States for use in providing food assistance to the needy under the Emergency Food Assistance Program (TEFAP) in Fiscal Year (FY) 2001. The commodities made available under this notice shall, at the discretion of the State, be distributed to organizations for use in preparing meals, and/or for distribution to households for home consumption.

EFFECTIVE DATE: October 1, 2000.

FOR FURTHER INFORMATION CONTACT: Lillie Ragan, Assistant Branch Chief, Household Programs Branch, Food Distribution Division, Food and Nutrition Service, U.S. Department of Agriculture, 3101 Park Center Drive, Alexandria, Virginia 22302-1594 or telephone (703) 305-2662.

SUPPLEMENTARY INFORMATION:

Background and Need for Action

Surplus Commodities

Surplus commodities donated for distribution under TEFAP are Commodity Credit Corporation (CCC) commodities determined to be available for donation by the Secretary of Agriculture under the authority of section 416 of the Agricultural Act of 1949, 7 U.S.C. 1431 (section 416) and commodities purchased under the surplus removal authority of section 32 of the Act of August 24, 1935, 7 U.S.C. 612c (section 32). The types of commodities typically made available under section 416 include dairy, grains, oils, and peanut products. The types of commodities purchased under section 32 include meat, poultry, fish, vegetables, dry beans, juices and fruits. Donations of surplus commodities were initiated in 1981 as part of the Department's efforts to reduce stockpiles of government-owned commodities, such as cheese, flour, butter, and cornmeal, which had been acquired under section 416. These donations responded to concern over the costs to taxpayers of storing large quantities of foods, while at the same time there were persons in need of food assistance. Because of changes in the agricultural commodity loan programs which have brought supply and demand into better balance, and accelerated donations and sales, the supply of surplus commodities has been reduced from the early 1980s. However, this trend reversed itself beginning in FY 1997. In FY 2000, the Department purchased over $159.5 million worth of surplus commodities. Most of these were purchased with Section 32 funds. The authority to donate surplus commodities for distribution through TEFAP is currently codified in Section 202 of the Emergency Food Assistance Act of 1983, 7 U.S.C. 7502 (EFAA).

In FY 2001, the Department anticipates that there will be sufficient quantities of nonfat dry milk available for donation under section 416, and raisins and frozen lamb under section 32, to support the distribution of these commodities through TEFAP in FY 2001. The Department would like to point out that commodity acquisitions are based on changing agricultural market conditions; therefore, the availability of commodities is subject to change. Approximately half of the surplus commodities purchased in FY 2000 will be delivered in FY 2001. These commodities include frozen lamb roasts, frozen sausage, trail mix, dried cranberries, dried and frozen cherries, frozen strawberries, frozen and canned peaches, fresh and canned pears, figs, almonds, and the following canned items: cranberry sauce, applesauce, apricots, grape juice, cranapple juice, apple juice, and tomato products.

In addition to the surplus commodities the Department expects to make available under sections 416 and 32, the Agricultural Risk Protection Act of 2000, Public Law 106-224, makes $200 million available for use in purchasing specialty crops that experienced low prices during the 1998 and 1999 crop years. These include apples, black-eyed peas, cherries, citrus crops, cranberries or cranberry products, onions, melons, peaches, and potatoes. Section 816 of the Agriculture, Rural Development, Food and Drug Administration, and Related Activities Appropriation Act of 2001 (Public Law 106-387) requires that not less than $30 million of the total $200 million be used for cranberry products. A significant amount of these commodities will be made available for distribution through TEFAP in FY 2001.

Purchased Commodities

Congress responded to the reduced availability of surplus commodities with section 104 of the Hunger Prevention Act of 1988, Public Law 100-435, which added sections 213 and 214 to the EFAA. Those sections require the Secretary to purchase commodities for distribution to States in addition to those surplus commodities which otherwise might be provided to States for distribution under TEFAP. Under section 871(d) of the Personal Responsibility and Work Opportunity Reconciliation Act of 1996, Public Law 104-193, Congress repealed the authorization of funds for food purchases under section 214 of the EFAA. However, section 871(g) added a new section 27 to the Food Stamp Act of 1977, 7 U.S.C. 2011, et seq. (FSA), under which the Secretary is required to use $100 million from the funds made available to carry out the FSA for each of FYs 1997 through 2002 to purchase a variety of nutritious and useful commodities and distribute the commodities to States for distribution through TEFAP. In addition to the $100 million, the Agriculture, Rural Development, Food and Drug Administration, and Related Activities Appropriation Act of 2001 (Pub. L. 106-387), provides a separate administrative funding appropriation of $45 million that is allocated among States in the same manner as commodities. At the discretion of each State, any funds remaining after the State has met the EFAA requirement that at least 40 percent of all funds received must be provided to cover the direct expenses of emergency feeding organizations may be used by the Department to purchase additional commodities for TEFAP (7 U.S.C. 7508).

For FY 2001, the Department anticipates purchasing the following commodities for distribution through TEFAP: Dehydrated potatoes, corn syrup, egg mix, blackeye beans, great northern beans, kidney beans, lima beans, pinto beans, prunes, raisins, bakery mix, lowfat bakery mix, egg noodles, white corn grits, macaroni, oats, peanut butter, rice, spaghetti, vegetable oil, rice cereal, corn flakes, corn squares, oat cereal, frozen ground beef, frozen chicken, frozen turkey roast, and the following canned items: Green beans, refried beans, vegetarian beans, cream corn, whole kernel corn, sliced potatoes, spaghetti sauce, tomatoes, tomato sauce, tomato soup, vegetarian soup, apple juice, grapefruit juice, orange juice, pineapple juice, tomato juice, peaches, pineapples, applesauce, pears, plums, beef, beef stew, chicken, pork, tuna, and roasted peanuts. In addition, the Department expects to purchase the following new items: Frozen ham, bran flakes, canned carrots, and cranapple juice. The amounts of each item purchased will depend on the prices the Department must pay, as well as the quantity of each item requested by the States. Changes in agricultural market conditions may result in the availability of additional types of commodities or the non-availability of one or more types listed above. State officials will be responsible for determining how to allocate the commodities each State receives among eligible organizations. States have full discretion in determining the amount of commodities that will be made available to organizations for distribution to needy households for use in home-prepared meals or for providing prepared meals to the needy at congregate feeding sites.

Dated: December 12, 2000.
George A. Braley,
Acting Administrator.

[FR Doc. 00-32287 Filed 12-18-00; 8:45 am]

BILLING CODE 3410-30-U